DEPARTMENT OF COMMERCE

National Oceanic and Atmospheric Administration

RIN 0648-XF69

Magnuson-Stevens Act Provisions; General Provisions for Domestic Fisheries; Application for Exempted Fishing Permit

AGENCY: National Marine Fisheries Service (NMFS), National Oceanic and Atmospheric Administration (NOAA), Commerce.

ACTION: Notice; request for comments.

SUMMARY: The Administrator, Northeast Region, NMFS (Regional Administrator) has made a preliminary determination that the subject Exempted Fishing Permit (EFP) application from the Gulf of Maine Research Institute (GMRI) that would exempt Atlantic herring (herring) vessels from the Management Area 1A (Area 1A) herring trawl gear restriction period contains all the required information and warrants further consideration. The Regional Administrator has also made a preliminary determination that the activities authorized under the EFP would be consistent with the goals and objectives of the Atlantic Herring Fishery Management Plan (FMP). However, further review and consultation may be necessary before a final determination is made.

DATES: Comments on this document must be received on or before March 25, 2008.

ADDRESSES: Comments may be submitted by e-mail. The mailbox address for providing e-mail comments is herring.efp@noaa.gov. Include in the subject line of the e-mail comment the following document identifier: “Comments on GMRI herring EFP.” Written comments should be sent to Patricia A. Kurkul, Regional Administrator, NMFS, Northeast Regional Office, 1 Blackburn Drive, Gloucester, MA 01930. Mark the outside of the envelope, “Comments on GMRI herring EFP.” Comments may also be sent via facsimile (fax) to (978) 281-9135.

FOR FURTHER INFORMATION CONTACT: Ryan Silva, Cooperative Research Program Specialist, phone: 978-281-9326, fax: 978-281-9135.

SUPPLEMENTARY INFORMATION:

Pending final approval by NOAA's Grants Management Division, the Science Director for NMFS's Northeast Fisheries Science Center has preliminarily selected an Atlantic Herring Research Set Aside (RSA) proposal submitted by GMRI to conduct a study entitled: “Effects of Fishing on Herring Aggregations,” which would assess the effects of midwater trawling on herring aggregations. GMRI proposes to survey a herring aggregation using acoustic sonar prior to, during, and following trawl fishing pressure. Due to concern that other fishing vessels, particularly other herring midwater trawl vessels, fishing in the study area could interfere with the survey, GMRI submitted an EFP application to conduct its research during the herring midwater trawl gear restriction period, as specified at 50 CFR 648.202(a) and detailed below, thereby ensuring midwater trawl vessels will not be fishing in the study area.

Amendment 1 to the FMP implemented a provision that vessels fishing for herring may not use, deploy, or fish with midwater trawl gear in Area 1A from June 1 through September 30. This measure was implemented due to concern about the potential impacts of midwater trawl fishing on the inshore Gulf of Maine (GOM) herring resource and other bycatch species. These concerns relate primarily to the importance of herring as a forage species for other fish, marine mammals, and seabirds, and the localized impact that midwater trawl fishing effort may have on schools of herring in nearshore areas. Additional concern was expressed by purse seine and weir fishers that midwater trawl gear may disperse herring schools and prevent herring schools from coming inshore, thereby limiting fishing opportunities for these respective gear types. Finally, data suggest there may be differences in the species composition of bycatch and mortality of bycatch between purse seine and midwater trawl gear. Therefore, restricting midwater trawl gear in Area 1A from June through October is intended to: (1) Increase herring availability as forage for various fish, marine mammal, and seabird species; (2) improve fishing opportunities for purse seine and weir fishers; and (3) reduce bycatch and bycatch mortality resulting from midwater trawling in Area 1A. Technical reviewers and panelists for the 2008/2009 Herring RSA Program noted that the proposed research would provide important information that would improve the understanding of midwater trawling effects on herring aggregations.

GMRI requests that a single vessel or paired vessels perform, under sonar surveillance, midwater trawling for up to four nights using standard midwater trawl gear in Area 1A between June 1 and September 30, 2008. Vessels would conduct five or fewer tows per night, with each tow lasting 2 to 4 hr. All trawling operations would be monitored by GMRI staff. All herring caught during the survey would be deducted from GMRI's Area 1A Herring RSA Program compensation allocation of 1,350 mt. Vessels conducting the survey would not be allowed to exceed their Area 1A compensation allocation while fishing under the EFP. Project investigators propose that sonar data prior to, during, and following trawl fishing pressure will illuminate the effect of midwater trawling on herring aggregations.

Regulations under the Magnuson-Stevens Fishery Conservation and Management Act require publication of this notification to provide interested parties the opportunity to comment on applications for proposed EFPs. The applicant may place requests for minor modifications and extensions to the EFP throughout the year. EFP modifications and extensions may be granted without further notice if they are deemed essential to facilitate completion of the proposed research and minimal so as not to change the scope or impact of the initially approved EFP request.

Authority: 16 U.S.C. 1801 et seq.

Dated: March 5, 2008.
Emily H. Menashes
Acting Director, Office of Sustainable Fisheries, National Marine Fisheries Service.

[FR Doc. E8-4645 Filed 3-7-08; 8:45 am]

BILLING CODE 3510-22-S